Title 3—

The President

Proclamation 7523 of February 4, 2002

National Consumer Protection Week, 2002

By the President of the United States of America

A Proclamation

Each year, we recognize the important role played by public and private organizations in ensuring that the American consumer is protected from unfair practices. The theme of this year's National Consumer Protection Week is “Consumer Confidential: The Privacy Story.” By focusing on consumer privacy and the protection of personal information, this week will help Americans learn more about securing their personal information and preserving privacy.

Advances in computer technology have enabled the more efficient use of information, which has benefitted society as a whole and individual consumers in particular. Americans now enjoy better access to credit and financial services, shopping choices, and educational resources. However, as personal information becomes more accessible, consumers, corporations, and government agencies must take precautions against the misuse of that information.

One of the most harmful abuses of personal information is identity theft. This occurs when someone steals a Social Security number, a birth date, or some other important piece of personal information to open new, fraudulent charge accounts, to order merchandise, or to borrow money. Victims usually find out about such frauds when collection agencies pursue them for payment on these illegally created accounts, or they are denied credit because of unpaid debts accrued by identity thieves.

While vigorous law enforcement is vital to preventing the misuse of personal information, consumer education is the first line of defense against this kind of fraud and deception. An educated consumer is a confident consumer; and it is confident consumers who drive the economy of our Nation.

A number of public and private entities are joining forces this year to highlight consumer education efforts throughout the Nation. These efforts will help consumers learn more about securing personal information and privacy issues. The entities involved include the following: the Federal Trade Commission, the National Association of Consumer Agency Administrators, the National Consumers League, the American Association of Retired Persons, the Better Business Bureau, the Consumer Federation of America, the U.S. Postal Service, the U.S. Postal Inspection Service, the National Association of Attorneys General, and the Federal Consumer Information Center. These groups will help consumers understand how information and privacy issues affect their lives and the decisions they make in the marketplace.

During National Consumer Protection Week, I encourage all Americans to learn more about ways to safeguard their personal information, recognize fraudulent telemarketers, and identify fraudulent e-mail. Through these measures, individuals can better protect their financial security and ultimately contribute to the long-term strength of our economy.

NOW, THEREFORE, I, GEORGE W. BUSH, President of the United States of America, by virtue of the authority vested in me by the Constitution and laws of the United States, do hereby proclaim February 3 through 9, 2002, as National Consumer Protection Week. I call upon Government officials, industry leaders, and consumer advocates to provide consumers information about the use and misuse of personal information. This will help safeguard the economic future of all Americans.

IN WITNESS WHEREOF, I have hereunto set my hand this fourth day of February, in the year of our Lord two thousand two, and of the Independence of the United States of America the two hundred and twenty-sixth.

B

[FR Doc. 02-3158

Filed 2-06-02; 8:45 am]

Billing code 3195-01-P